DEPARTMENT OF ENERGY

Federal Energy Regulatory Commission

[Docket No. RP03-584-001]

ANR Pipeline Company; Notice of Tariff Filing

November 14, 2003.

Take notice that on November 7, 2003, ANR Pipeline Company (ANR) tendered for filing as part of its FERC Gas Tariff, Second Revised Volume No. 1, the following tariff sheets proposed to become effective September 1, 2003:

Sub Fifty-Seventh Revised Sheet No. 8

Sub Fifty-Seventh Revised Sheet No. 9

Sub Fifty-Sixth Revised Sheet No. 13

ANR states that the above-referenced tariff sheets are being filed to correct the Above-Market Dakota Costs assigned to ANR's ITS Rate Schedule which were inadvertently allocated over a three-month period instead of the twelve-month period requested in its filing of August 29, 2003.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00349 Filed 11-20-03; 8:45 am]

BILLING CODE 6717-01-P